DEPARTMENT OF DEFENSE

Department of the Army

[Docket ID: USA-2015-0010]

Proposed Collection; Comment Request

AGENCY: Network Enterprise Technology Command, Department of the Army, DoD.

ACTION: Notice.

SUMMARY: In compliance with the Paperwork Reduction Act of 1995, the Network Enterprise Technology Command announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 18, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Headquarters, Network Enterprise Technology Command, Military Auxiliary Radio System, Salado, TX 76571, ATTN: Paul English, or call 254-947-3141.

SUPPLEMENTARY INFORMATION: Title; Associated Form; and OMB Number: Application to Operate a Military Auxiliary Radio System (MARS) Station; Army MARS Form AM-1; OMB Control Number 0702-XXXX.

Needs and Uses: The MARS program is a civilian auxiliary organization consisting primarily of licensed amateur radio operators who are interested in assisting the military with communications on a local, national, and international basis as an adjunct to licensed and published national (civilian and military) communications and providing worldwide auxiliary emergency or contingency communications during times of need in support of the Department of Defense. The information collection requirement, use and storage is necessary to determine an applicant's eligibility for the program and initiate a background investigation (should a security clearance be required), and to maintain a current and accurate roster of program enrollees as well as to keep a historical data base on completed/adjudicated (accepted, not accepted, no longer affiliated) applications. Secondary use of the collected information is used to show the geographic dispersion of the members who participate in the global High Frequency radio network program and to ensure our radio spectrum authorizations cover the geographic areas from which our members would operate. Tertiary, the information is used to send periodic email informational updates and status/news about the MARS program.

Affected Public: Individual members of the general public and Federal Communications Commission licensed Amateur Radio operators who are interested in providing emergency and contingency communications.

Annual Burden Hours: 660.

Number of Respondents: 660.

Responses per Respondent: 1.

Average Burden per Response: 1 hr.

Frequency: On occasion.

Individuals and FCC licensed Amateur Radio operators voluntarily indicate a desire to join the Army MARS program. These interested individuals are required to submit the “Application to Operate a MARS Station form” for verification of applicants qualifications and certifications required for acceptance into the program. Once accepted into the MARS program, the information provided is entered into the MARS membership database so that the Program Manager has accurate roster of all current and former members of Army MARS. Member information, specifically the email address, is used by the Program Manager disseminate general program information, upcoming training events, and other related activities. Member phone numbers are also used (on occasion) as a secondary means to contact members as well as to solicit information, ideas and observations directly. Postal address are used to validate current mailing information and to categorize members physical locations, thereby generating an accurate overview of members locations throughout the world to aggregate radio network coverage. Concurrently, the postal address is used to mail certificates of achievement and appreciation to those members who excel in their participation supporting the MARS program. The date of birth is used to verify that minimum age restrictions for acceptance into the MARS program and initiate a security clearance background check (if required).

Dated: March 12, 2015.
Aaron Siegel,
Alternate OSD Federal Register Liaison Officer, Department of Defense.

[FR Doc. 2015-06046 Filed 3-16-15; 8:45 am]

BILLING CODE 5001-06-P